DEPARTMENT OF COMMERCE

National Oceanic and Atmospheric Administration

Submission for OMB Review; Comment Request, Alaska Notification of Intent To Process Aleutian Islands Pacific Cod

The Department of Commerce will submit to the Office of Management and Budget (OMB) for clearance the following proposal for collection of information under the provisions of the Paperwork Reduction Act (44 U.S.C. Chapter 35).

Agency: National Oceanic and Atmospheric Administration (NOAA).

Title: Alaska Notification of Intent to Process Aleutian Islands Pacific Cod.

OMB Control Number: 0648-0743.

Form Number(s): None.

Type of Request: Regular.

Number of Respondents: 2.

Average Hours per Response: 30 minutes for notification of intent to process non-community development quota Aleutian Islands Pacific cod from directed fishing.

Burden Hours: 1 hr.

Needs and Uses: This request is for extension of a currently approved information collection that contains the annual notification of intent that the City of Adak or the City of Atka submits to NMFS of its intent to process non-community development quota Aleutian Islands Pacific cod in the upcoming fishing year in order for the Aleutian Islands catcher vessel harvest set-aside to go into effect in the upcoming fishing year.

NMFS uses this information to determine how to calculate Pacific cod allocations required under 50 CFR 679.20(a)(7)(viii) during the annual Bering Sea and Aleutian Islands (BSAI) harvest specifications process. If NMFS receives a notification of intent to process Aleutian Islands Pacific cod from either the City of Adak or the City of Atka by October 31, NMFS establishes an Aleutian Islands catcher vessel Pacific cod harvest set-aside, along with other Pacific cod allocations by area, sector, and gear type. These harvest limits will be in effect in the following year.

NMFS implemented this collection of information in 2016 under Amendment 113 to the Fishery Management Plan for Groundfish of the Bering Sea and Aleutian Islands Management Area. Amendment 113 modified management of the BSAI Pacific cod fishery to set aside a portion of the Aleutian Islands Pacific cod total allowable catch for harvest by vessels directed fishing for Aleutian Islands Pacific cod and delivering their catch for processing to a shoreside processor located on land west of 170° W longitude in the Aleutian Islands (“Aleutian Islands shoreplant”). This harvest set-aside applies only if specific notification and performance requirements are met, and only during the first few months of the fishing year. This harvest set-aside provides the opportunity for vessels, Aleutian Islands shoreplants, and the communities where Aleutian Islands shoreplants are located to receive benefits from a portion of the Aleutian Islands Pacific cod fishery. The notification and performance requirements preserve an opportunity for the complete harvest of the BSAI Pacific cod resource if the set-aside is not fully harvested.

In March 2019, the U.S. District Court for the District of Columbia vacated the rule implementing Amendment 113 and remanded Amendment 113 to NMFS for reconsideration. In May 2019, the U.S. Department of Justice filed a notice of appeal.

As the notification of intent is based on the vacated regulations that implemented Amendment 113, this information will not be collected unless the regulations are reinstated on appeal.

NMFS is requesting renewal of this collection of information in the event of a successful appeal.

Affected Public: Local government.

Frequency: Annually; on occasion.

Respondent's Obligation: Required to obtain or retain benefits.

This information collection request may be viewed at reginfo.gov. Follow the instructions to view Department of Commerce collections currently under review by OMB.

Written comments and recommendations for the proposed information collection should be sent within 30 days of publication of this notice to OIRA_Submission@omb.eop.gov or fax to (202) 395-5806.

Sheleen Dumas,
Departmental Lead PRA Officer, Office of the Chief Information Officer, Commerce Department.

[FR Doc. 2019-24305 Filed 11-6-19; 8:45 am]

BILLING CODE 3510-22-P